DEPARTMENT OF COMMERCE

Office of the Under Secretary for Economic Affairs

Request for Comments for the Advisory Committee on Data for Evidence Building

AGENCY: Office of the Under Secretary for Economic Affairs, Department of Commerce.

ACTION: Request for comments.

SUMMARY: The Foundations for Evidence-Based Policymaking Act of 2018 requires federal agencies to modernize their data management practices to develop and support evidence-based policymaking. The Act requires the Director of the Office of Management and Budget (OMB), or the head of an agency designated by the Director, to establish the Advisory Committee on Data for Evidence Building (Advisory Committee). In a letter dated September 3, 2019, OMB delegated managerial and administrative responsibility for this Federal advisory committee to the Department of Commerce Office of Under Secretary for Economic Affairs (OUSEA).

DATES: Comments must be received by Tuesday, February 9, 2021.

ADDRESSES: You may submit comments by any of the following methods:

• Federal eRulemaking Portal: www.regulations.gov. Docket ID—EAB-2021-0001-0001.

• By email directly to Evidence@bea.gov. Begin with the phrase “Comments for the Advisory Committee on Data for Evidence Building;” and indicate which numbered questions described in the SUPPLEMENTARY INFORMATION of this notice your comments address. Comments by fax or paper delivery will not be accepted.

Privacy Note: Comments submitted in response to this notice may be made available to the public through relevant websites. Therefore, commenters should only include information they wish to make publicly available on the internet. Do not submit confidential business information or otherwise sensitive or protected information.

Please note the confidentiality of routine communication and responses to this public comment request are treated as public comments and may therefore be made publicly available, notwithstanding the inclusion of the routine notice.

FOR FURTHER INFORMATION CONTACT: Lucas Hitt, Designated Federal Official, Advisory Committee on Data for Evidence Building, 4600 Silver Hill Road, Washington, DC 20233 by email Gianna Marrone (gianna.marrone@bea.gov) or by phone (301) 278-9282.

SUPPLEMENTARY INFORMATION:

Request for Comments

The Advisory Committee will review, analyze, and make recommendations on how to promote the use of data for evidence building. The Advisory Committee will evaluate and provide recommendations to the Director of the Office of Management and Budget on how to facilitate data sharing, data linkage, and privacy enhancing techniques in support of evidence building. As part of its evaluation, the Advisory Committee may consider best practices to improve the safe and appropriate access to data. The Advisory Committee will consider the coordination of data sharing and availability of data for evidence building across all agencies and levels of government. The FRN commentators may respond to any question and do not need to respond to all questions.

This request for comments offers researchers, evaluators, contractors, government entities, and other interested parties the opportunity to inform the Committee's work. This is a general solicitation of comments from the public. The Advisory Committee will consider all feedback and recommendations on core topics and central issues such as:

• Capacity needs for secure data access and record linkage.

• Areas for research and development on state-of-the-art data access and data protection methods.

• How to protect privacy when using personally identifiable information or confidential business information in support of evidence building.

• How to promote transparency and facilitate public engagement with the evidence building process.

• Agency needs for data management and data stewardship services.

• How to best facilitate the needs of researchers, evaluators, and other evidence builders through a national data service or similar approach.

Please clearly indicate which question(s) you address in your response and any evidence to support assertions, where practicable.

Round 1

Central Questions—

1. What are the main challenges faced by national, state/provincial, or local governments that are trying to build a basis for evidence-based policy? Briefly describe the bottlenecks and pain-points they face in the evidence-based decision-making process.

2. What are examples of high-impact data uses for evidence-based policy making that successfully effected change, reduced costs, or improved the welfare of citizens?

3. Which frameworks, policies, practices, or methods show promise in overcoming challenges experienced by governments in their evidence building?

4. The Commission on Evidence-Based Policymaking (See: www.cep.gov) recommended the creation of a National Secure Data Service (See Commission Report at www.cep.gov). Do you agree with this recommendation, and if so, what should be the essential features of a National Secure Data Service?

5. How can federal agencies protect individual and organizational privacy when using data for evidence building? Recommend specific actions the Office of Management and Budget and/or other federal agencies can take when using data for evidence building, as well as suggested changes to federal laws, policies, and procedures.

Secure Data Access—

6. If created, how should a data service be structured to best facilitate (1) research and development of secure data access and confidentiality technologies and methods, (2) and agency adoption of those technologies and techniques?

7. Government agencies have argued that secure data access has value because it (1) improves service delivery, (2) improves efficiency (lowers costs), (3) produces metrics for performance measurement, and (4) produces new learnings/insights from the data. Which of these propositions do you agree holds value and why? Do you have examples that demonstrate these benefits? Do you have other examples of the value of secure data access?

Data Services to Federal, State, Local Agencies and the Public—

8. What are the most pressing data needs of state and local decision makers and how would making data accessible from federal agencies help meet those needs? To share data, what guarantees do data owners (or data controllers) need regarding privacy, data stewardship, and retention?

9. What are the key problems and use cases where collaborative work between federal, state, and local authorities' data analysis can inform decisions? What are key decision support tools? How would greater communication about data and tools benefit expanded evidence building?

Infrastructure for Meeting Public and Evidence Building Needs—

10. What basic public data services are essential for a data service to address existing capacity gaps and needs? What infrastructure or incentives can the federal government create that locals and states cannot?

Dated: December 9, 2020.
Gianna Marrone,
Assistant Designated Federal Official, Advisory Committee on Data for Evidence Building.

[FR Doc. 2021-01092 Filed 1-15-21; 8:45 am]

BILLING CODE 3510-MN-P